DEPARTMENT OF ENERGY

10 CFR Part 430

[Docket Number EERE-2012-BT-STD-0027]

RIN 1904-AC81

Energy Conservation Program: Energy Conservation Standards for Residential Dehumidifiers

AGENCY: Office of Energy Efficiency and Renewable Energy, Department of Energy.

ACTION: Publication of determination.

SUMMARY: The Energy Policy and Conservation Act of 1975 (EPCA), as amended, prescribes that the U.S. Department of Justice (DOJ) make a determination on the impact, if any, on the lessening of competition likely to result from a U.S. Department of Energy (DOE) proposed rule for energy conservation standards and that DOE publish the determination in the Federal Register. DOE published its final rule for energy conservation standards for dehumidifiers on June 13, 2016, and is publishing DOJ's August 5, 2015 determination on the proposed rule.

DATES: Date of DOJ determination—August 5, 2015.

FOR FURTHER INFORMATION CONTACT:

Mr. John Cymbalsky, U.S. Department of Energy, Office of Energy Efficiency and Renewable Energy, Building Technologies Program, EE-5B, 1000 Independence Avenue SW., Washington, DC 20585-0121. Telephone: (202) 287-1692. Email: dehumidifiers@EE.Doe.Gov.

Ms. Elizabeth Kohl, U.S. Department of Energy, Office of the General Counsel, GC-33, 1000 Independence Avenue SW., Washington, DC 20585-0121. Telephone: (202) 586-7796. Email: ElizabethKohl@hq.doe.gov.

SUPPLEMENTARY INFORMATION: On June 13, 2016, DOE published a final rule amending energy conservation standards for dehumidifiers (81 FR 38338). Those amended standards were determined by DOE to be technologically feasible and economically justified and would result in the significant conservation of energy. The Energy Conservation and Policy Act of 1975 (42 U.S.C. 6291, et seq.; “EPCA”), as amended, requires that the Attorney General make a determination and analysis of the impact, if any, of any lessening of competition likely to result from a proposed standard, within 60 days of publication. (42 U.S.C. 6295(o)(2)(B)(ii)) EPCA also requires that DOE publish the determination and analysis in the Federal Register. Id.

DOE received the determination in response to the June 3, 2015 NOPR (80 FR 31645) from the Attorney General and the U.S. Department of Justice (DOJ) on August 5, 2015. DOE is publishing the text of DOJ's August 5, 2015 determination.

Issued in Washington, DC, on August 11, 2016.
Kathleen B. Hogan,
Deputy Assistant Secretary for Energy Efficiency, Energy Efficiency and Renewable Energy.

Main Justice Building

950 Pennsylvania Avenue NW.

Washington, DC 20530-0001

(202) 514-2401 / (202) 616-2645 (Fax)

August 5, 2015

Anne Harkavy

Deputy General Counsel for Litigation, Regulation and Enforcement

U.S. Department of Energy

Washington, DC 20585

Re: Energy Conservation Standards for Residential Dehumidifiers Doc. No. EERE-2012-BT-STD-0027

Dear Deputy General Counsel Harkavy:

I am responding to your June 3, 2015, letter seeking the views of the Attorney General about the potential impact on competition of proposed energy conservation standards for residential dehumidifiers. Your request was submitted under Section 325(o)(2)(B)(i)(V) of the Energy Policy and Conservation Act, as amended (ECPA), 42 U.S.C. 6295(o)(2)(B)(i)(V), which requires the Attorney General to make a determination of the impact of any lessening of competition that is likely to result from the imposition of proposed energy conservation standards. The Attorney General's responsibility for responding to requests from other departments about the effect of a program on competition has been delegated to the Assistant Attorney General for the Antitrust Division in 28 CFR 0.40(g).

In conducting its analysis, the Antitrust Division examines whether a proposed standard may lessen competition, for example, by substantially limiting consumer choice or increasing industry concentration. A lessening of competition could result in higher prices to manufacturers and consumers.

We have reviewed the proposed standards contained in the Notice of Proposed Rulemaking (80 FR 31,646, June 3, 2015) and the related Technical Support Documents. We have also reviewed information presented at the public meeting held on the proposed standards on July 7, 2015. Based on this review, our conclusion is that the proposed energy conservation standards for residential dehumidifiers are unlikely to have a significant adverse impact on competition.

Sincerely,

William J. Baer

[FR Doc. 2016-19612 Filed 8-17-16; 8:45 am]

BILLING CODE 6450-01-P